FEDERAL COMMUNICATIONS COMMISSION

47 CFR Part 73

[DA 01-2055; MM Docket No. 01-89; RM-10094]

Television Broadcasting Services; Decatur, Plano, TX.

AGENCY: Federal Communications Commission.

ACTION: Final rule, dismissal.

SUMMARY: The Commission dismisses a petition for rule making filed by Word of God Fellowship, Inc. (“petitioner”), requesting the reallotment of Television Channel 29 from Decatur to Plano, Texas as the community's first local transmission service. Petitioner filed no comments in response to the Notice of Proposed Rulemaking.

FOR FURTHER INFORMATION CONTACT: Victoria M. McCauley, Mass Media Bureau, (202) 418-2180.

SUPPLEMENTARY INFORMATION: This is a synopsis of the Commission's Report and Order, MM Docket No. 01-89 adopted August 22, 2001 and released August 31, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Federal Communications Commission.
John A. Karousos,
Chief, Allocations Branch, Policy and Rules Division, Mass Media Bureau.

[FR Doc. 01-22834 Filed 9-11-01; 8:45 am]

BILLING CODE 6712-01-U